DEPARTMENT OF JUSTICE

Antitrust Division

Notice Pursuant to the National Cooperative Research and Production Act of 1993—Glass Technology Development Corporation

Notice is hereby given that, on June 15, 2007, pursuant to Section 6(a) of the National Cooperative Research and Production Act of 1993, 15 U.S.C. 4301 et seq. (“the Act”), Glass Technology Development Corporation (“FTDC”) has filed written notifications simultaneously with the Attorney General and the Federal Trade Commission disclosing (1) the identities of the parties to the venture and (2) the nature and objective of the venture. The notifications were filed for the purpose of invoking the Act's provisions limiting the recovery of antitrust plaintiffs to actual damages under specified circumstances.

Pursuant to Section 6(b) of the Act, the identities of the parties to the venture are: A O Smith Corporation, Florence, KY; EIC Group North America, Lewisville, TX; Ferro Corporation, Cleveland, OH; Hanson Industries, Lynchburg, VA; Henkel Surface Technologies, Madison Heights, MI; KMI Systems, Inc., Crystal Lake, IL; Mapes and Sprowl Steel, Elk Grove Village, IL; Pemco Corporation, Baltimore, MD; Porcelain Industries, Dickson, TN; Roesch, Inc., Belleville, IL; and URS Corporation, Franklin, TN.

Glass Technology Development Corporation's general area of planned activity is to conduct joint research necessary to develop and demonstrate commercially viable technology for manufacturing products using new porcelain enamel coating technology developed by the United States Government.

Patricia A. Brink,
Deputy Director of Operations, Antitrust Division.

[FR Doc. 07-4437 Filed 9-10-07; 8:45 am]

BILLING CODE4410-11-M